LEGAL SERVICES CORPORATION

Sunshine Act Meetings; Notice

DATES: Date And Time: The Legal Services Corporation Board of Directors and its six committees will meet on October 16-18, 2011. On Sunday, October 16, the Governance & Performance Review Committee will meet at 4:45 p.m., Central Daylight Time. On Monday, October 17, the first meeting will commence at 1:15 p.m., Central Daylight Time. On Tuesday, October 18, the first meeting will commence at 10:15 a.m., Central Daylight Time.

Location

On Sunday, October 16, the Governance & Performance Review Committee meeting will be held at the Hyatt Regency Chicago Hotel, 151 East Wacker Drive, Chicago, Illinois 60601. On Tuesday, October 18, the Promotion & Provision Committee meeting will be held at the Chicago Bar Association, 321 South Plymouth Court, Chicago, Illinois 60604. The remaining Board and committee meetings on Monday, October 17 and Tuesday, October 18, will be held at the American Bar Association Headquarters, 321 N. Clark Street, Chicago, Illinois 60654.

Public Observation

Unless otherwise noted herein, the Board and all committee meetings will be open to public observation. Members of the public who wish to attend the Board and committee meetings on Monday, October 17 and Tuesday, October 18 at the American Bar Association Headquarters will need to identify themselves to building security upon entering the building. If you plan to attend any meeting(s) on the 17th or 18th, please contact Kathleen Connors, at connorsk@lsc.gov or 202-295-1617, at least 2 business days in advance of the meeting to place your name on the guest list.

Members of the public who are unable to attend in person but wish to listen to the public proceedings may do so by following the telephone call-in directions provided below but are asked to keep their telephones muted to eliminate background noises. From time to time the presiding Chair may solicit comments from the public.

Call-In Directions for Open Sessions

• Call toll-free number: 1-866-451-4981;

• When prompted, enter the following numeric pass code: 5907707348

• When connected to the call, please immediately “MUTE” your telephone.

Meeting Schedule:

Sunday, October 16, 2011 Time.*

* Please note that all times in this notice are in the Central Daylight Time.

** The meeting of the Institutional Advancement Committee will run concurrently with the meetings of the Finance Committee and the Audit Committee.

1. Governance and Performance Review Committee 4:45 p.m.

Monday, October 17, 2011

1. Operations & Regulations Committee 1:15 p.m.

2. Finance Committee** 2:15 p.m.

3. Institutional Advancement Committee** 3:00 p.m.

4. Audit Committee** 3:30 p.m.

Tuesday, October 18, 2011 Time.

1. Promotion & Provision for the Delivery of Legal Services Committee. 10:15 p.m.

2. Board of Directors. 1:45 p.m.

Status of Meeting

Open, except as noted below.

• Board of Directors—Open, except that, upon a vote of the Board of Directors, a portion of the meeting may be closed to the public to consider and act on the report of the Finance Committee regarding a technical correction to LSC's benefits plan document, to consider and act on the report of the Institutional Advancement Committee regarding reports by consultant candidates, to consider and act on briefings from management and LSC's Inspector General, and to consider and act on the General Counsel's report on potential and pending litigation involving LSC.***

*** Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

• Finance Committee—Open, except that, upon a vote of the Board of Directors, a portion of the meeting may be closed to the public to consider and act on a technical correction to LSC's benefits plan document.

• Institutional Advancement Committee—Upon a vote of the Board of Directors, the meeting may be closed to the public to hear briefings by consultant candidates and to consider and act on selection of a consultant.****

**** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board, Finance Committee and Institutional Advancement Committee meetings. However, the transcript of any portions of the closed session falling within the relevant provisions of the Government in the Sunshine Act, 5 U.S.C. 552b(c)(6), (9) and (10), and the corresponding provisions of the Legal Services Corporation's implementing regulations, 45 CFR 1622.5(e), (g) and (h), will not be available for public inspection. A copy of the General Counsel's Certification that in his opinion the closing is authorized by law will be available upon request.

Matters To Be Considered

Sunday, October 16, 2011

Governance & Performance Review Committee

1. Approval of agenda.

2. Approval of minutes of the Committee's meeting of April 16, 2011.

3. Staff report on:

• 2011 Board and Board Member self-evaluations.

• 2011 Committee evaluations.

• Update on research agenda.

• Update on GAO recommendations.

4. Discussion of President, Officers, and IG evaluations for 2011.

5. Consider and act on other business.

6. Public Comment.

7. Consider and act on motion to adjourn meeting .

* * * * *

Monday, October 17, 2011

Operations & Regulations Committee

1. Approval of agenda.

2. Approval of minutes of the Committee's meeting of July 20, 2011.

3. Approval of minutes of the Committee's meeting of September 16, 2011.

4. Consider and act on potential initiation of rulemaking on enforcement mechanisms and sanctions:

• Mattie Cohan, Office of Legal Affairs.

• Laurie Tarantowicz, Office of Inspector General.

5. Staff report on relationship between LSC laws and regulations and LSC guidance.

• Mattie Cohan, Office of Legal Affairs.

6. Public comment.

7. Consider and act on other business.

8. Consider and act on adjournment of meeting.

* * * * *

Finance Committee

Open Session

1. Approval of agenda.

2. Approval of the minutes of the meeting of July 20, 2011.

3. Approval of the minutes of the meeting of August 1, 2011.

4. Approval of the minutes of the meeting of September 13, 2011.

5. Presentation on LSC's Financial Reports for period ending August 31, 2011:

• David Richardson, Treasurer/Comptroller.

6. Staff report on status of FY 2013 appropriations process:

• John Constance, Office of Government Relations and Public Affairs

7. Consider and act on Resolution # 2011-0XX, Temporary Operating Budget for FY 2012:

• Presentation by David Richardson, Treasurer/Comptroller.

8. Public comment.

9. Consider and act on other business.

Closed Session

1. Consider and act on a technical correction to an LSC benefits plan document

2. Consider and act on adjournment of meeting

* * * * *

Institutional Advancement Committee

Closed Session

1. Approval of agenda.

2. Briefing by consultant candidates.

3. Consider and act on selection of a consultant.

4. Consider and act on adjournment of meeting.

* * * * *

Audit Committee

1. Approval of agenda.

2. Approval of minutes of the Committee's July 20, 2011 meeting.

3. Report on 403(b) annual plan review and update on annual audit:

• Alice Dickerson, Director of Human Resources.

4. Consider and act on revised Audit Committee charter:

• Mattie Cohan, Office of Legal Affairs.

• Ronald Merryman, Office of Inspector General.

5. Briefing on LSC's Contracting Procedures:

• David Richardson, Comptroller/Treasurer.

6. Consider and act on which major management processes the Committee will review in calendar year 2012.

7. Public comment.

8. Consider and act on other business.

9. Consider and act on adjournment of meeting.

* * * * *

Tuesday, October 18, 2011

Promotion & Provision for the Delivery of Legal Services Committee

1. Approval of Agenda.

2. Approval of Minutes of the Committee's meeting of July 20, 2011.

3. Courthouse help desk panel presentation.

4. Discussion of future agenda topics.

5. Public comment.

6. Consider and act on other business.

7. Consider and act on adjournment of meeting.

* * * * *

Board of Directors

Open Session

1. Pledge of Allegiance.

2. Approval of agenda.

3. Approval of Minutes of the Board's Open Session meeting of July 21, 2011.

4. Approval of Minutes of the Board's Open Session meeting of September 19, 2011.

5. Chairman's Report.

6. Members' Reports.

7. President's Report.

8. Inspector General's Report.

9. Consider and act on the report of the Governance & Performance Review Committee.

10. Consider and act on the report of the Promotion & Provision for the Delivery of Legal Services Committee.

11. Consider and act on the report of the Finance Committee.

12. Consider and act on the report of the Audit Committee.

13. Consider and act on the report of the Operations & Regulations Committee.

14. Consider and act on the Fiscal Oversight Task Force Report and public comment received in response to the request for comments published in the Federal Register at 76 FR 169 (August 31, 2011).

15. Public comment.

16. Consider and act on other business.

17. Consider and act on whether to authorize an executive session of the Board to address items listed below, under Closed Session.

Closed Session

18. Approval of Minutes of the Board's Closed Session meeting of July 21, 2011

19. Consider and act on report of the Institutional Advancement Committee regarding selection of a consultant

20. Consider and act on report of the Finance Committee regarding a technical correction to LSC's benefits plan document

21. Briefing by Management

22. Briefing by the Office of Inspector General

23. Consider and act on General Counsel's report on potential and pending litigation involving LSC

24. Consider and act on adjournment of meeting

* * * * *

CONTACT PERSON FOR INFORMATION: Katherine Ward, Executive Assistant to the Vice President & General Counsel, at (202) 295-1500. Questions may be sent by electronic mail to FR_NOTICE_QUESTIONS@lsc.gov.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: October 7, 2011.
Victor M. Fortuno,
Vice President and General Counsel.

[FR Doc. 2011-26547 Filed 10-11-11; 11:15 am]

BILLING CODE 7050-01-P